GENERAL SERVICES ADMINISTRATION

[OMB Control No. 3090-0086; Docket 2012-0001; Sequence 18]

General Services Administration Acquisition Regulation; Information Collection; Proposal To Lease Space, GSA Forms 1364A, 1364A-1, 1364B, 1364C, 1364D

AGENCY: Office of the Chief Acquisition Officer, General Services Administration (GSA).

ACTION: Notice of request for comments regarding an extension of an information collection requirement for an existing OMB clearance.

SUMMARY: Under the provisions of the Paperwork Reduction Act, the General Services Administration will be submitting to the Office of Management and Budget (OMB) a request to review and approve an extension of a previously approved information collection requirement for Proposal to Lease Space, GSA Form 1364. The General Services Administration (GSA) has various mission responsibilities related to the acquisition and provision of real property management, and disposal of real and personal property. These mission responsibilities generate requirements that are realized through the solicitation and award of leasing contracts. Individual solicitations and resulting contracts may impose unique information collection/reporting requirements on contractors, not required by regulation, but necessary to (1) evaluate whether the physical attributes of offered properties meet the Government's requirements and (2) compare the owner/offeror's price proposal against competing offers.

DATES: Submit comments on or before: March 4, 2013.

ADDRESSES: Submit comments identified by Information Collection 3090-0086, Proposal to Lease Space, GSA Forms 1364A, 1364A-1, 1364B, 1364C and 1364D by any of the following methods:

• Regulations.gov: http://www.regulations.gov. Submit comments via the Federal eRulemaking portal by inputting “Information Collection 3090-0086, Proposal to Lease Space, GSA Form 1364D” under the heading “Enter Keyword or ID” and selecting “Search”. Select the link “Submit a Comment” that corresponds with “Information Collection 3090-0086, Proposal to Lease Space, GSA Form 1364”. Follow the instructions provided at the “Submit a Comment” screen. Please include your name, company name (if any), and “Information Collection 3090-0086, Proposal to Lease Space, GSA Form 1364” on your attached document.

• Fax: 202-501-4067.

• Mail: General Services Administration, Regulatory Secretariat (MVCB), 1275 First Street NE., Washington, DC 20417. ATTN: Hada Flowers/IC 3090-0086, Proposal to Lease Space, GSA Form 1364D.

Instructions: Please submit comments only and cite Information Collection 3090-0086, Proposal to Lease Space, GSA Form 1364, in all correspondence related to this collection. All comments received will be posted without change to http://www.regulations.gov, including any personal and/or business confidential information provided.

FOR FURTHER INFORMATION CONTACT: Ms. Kathy Rifkin, Procurement Analyst, General Services Acquisition Policy Division, GSA (816) 823-2170 or via email at kathy.rifkin@gsa.gov.

SUPPLEMENTARY INFORMATION:

A. Purpose

The approval is requested for 5 versions of the form, GSA Forms 1364A, 1364A-1, 1364B, 1364C, and 1364D. These forms are used to obtain information for offer evaluation and lease award purposes regarding property being offered for lease to house Federal agencies. This includes financial aspects of offers for analysis and negotiation, such as real estate taxes, adjustments for vacant space, and offerors' construction overhead fees.

These Form 1364 versions are products of a GSA Lease Reform Initiative to improve the lease acquisition process for GSA, client agencies, and the private sector. Process reform over the past 2 years has brought reform to GSA leasing by implementing a variety of enhancements and improvements to the methods by which GSA procures space. As a direct result of the reform, five new lease contract models have been developed that are targeted to meet the needs of the national leased portfolio. Four of the lease models require offerors to complete a GSA Form 1364. The new versions of GSA Form 1364 require the submission of information specifically aligned with the leasing models and avoid mandating submission of information that is not required for use in evaluation and award under each model. The Simplified Lease Model uses GSA Forms 1364A and 1364A-1. This model obtains a firm, fixed price for rent, which includes the cost of tenant improvement construction. Therefore, leases using the Simplified model do not include post-award tenant improvement cost information on the form.

The 1364A includes rental rate components and cost data that becomes part of the lease contract and that is necessary to satisfy GSA pricing policy requirements.

The 1364A-1 is a checklist that addresses technical requirements as referenced in the Request for Lease Proposals. The 1364A-1 is separate from the proposal itself and maintained in the lease file; it does not become an exhibit to the lease. The 1364A-1 may contain proprietary offeror information that cannot be released under the Freedom of Information Act.

The Streamlined Lease Model uses GSA Form 1364B. The Streamlined Lease model is a unique model that was designed to support small to mid-size leases up to $500,000 average net annual rent and occupancies that fall under Interagency Security Committee Security Levels I, II, and III. The Streamlined Lease model is not used for projects requiring lease construction or leases employing the best value trade-off evaluation process.

The Standard Lease Model, which relies on an allowance instead of firm fixed pricing for initial tenant improvements, uses GSA Form 1364C. The 1364C captures an offeror's proposed interest rate and amortization period for the tenant improvements, in addition to the lessor's overhead fees.

The Succeeding and Superseding Lease Model uses GSA Form 1364D. These leases are negotiated with the existing lessor after advertisements and cost benefit analyses result in a determination that such a lease is in the best interests of the government. The form has less data input required than for a Standard lease; it also includes current rental rate information, supplied by the Government.

The 1364A-1, 1364B, and 1364C summarize an offeror's technical compliance with some important statutory and regulatory requirements to make the overall offer process easier for offerors to understand (e.g., accessibility and seismic standards, flood plain compliance, asbestos). The 1364C also limits the collection of tenant improvement overhead fees to the architect/engineering fees and lessor's project management fees.

B. Annual Reporting Burden

Respondents: 3565.

Responses per Respondent: 1.

Hours per Response: 2.4238 (average).

Total Burden Hours: 8641.

Obtaining Copies of Proposals: Requesters may obtain a copy of the information collection documents from the General Services Administration, Regulatory Secretariat, 1275 First Street NE., Washington, DC 20417, telephone (202) 501-4755. Please cite OMB Control No. 3090-0086, GSA Form 1364, Proposal to Lease Space, in all correspondence.

Dated: December 21, 2012.
Joseph A. Neurauter,
Director, Office of Acquisition Policy & Senior Procurement Executive (MV).

[FR Doc. 2012-31622 Filed 1-2-13; 8:45 am]

BILLING CODE 6820-61-P